DEPARTMENT OF HOMELAND SECURITY

U.S. Citizenship and Immigration Services

ACTION: 30-day notice of information collection under review; Application to register permanent residence or adjust status, and supplement A to form I-485.

The Department of Justice, U.S. Citizenship and Immigration Services (USCIS) has submitted the following information collection request to the Office of Management and Budget (OMB) for review and clearance in accordance with the Paperwork Reduction Act of 1995. The information collection was previously published in the Federal Register on March 23, 2005 at 70 FR 14707, allowed for a 60-day public comment period. No comments were received by the USCIS on this information collection.

The purpose of this notice is to allow an additional 30 days for public comments. Comments are encouraged and will be accepted until June 24, 2005. This process is conducted in accordance with 5 CFR 1320.10.

Written comments and suggestions from the public and affected agencies concerning the collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Extension of currently approved information collection.

(2) Title of the Form/Collection: Application to Register Permanent Residence or Adjust Status, and Supplement A to Form I-485.

(3) Agency form number, if any, and the applicable component of the Department of Homeland Security sponsoring the collection: Forms I-485 and I-485 Supplement A. U.S. Citizenship and Immigration Services.

(4) Affected public who will be asked or required to respond, as well as a brief abstract: Primary: Individuals or Households. This collection allows an applicant to determine whether he or she must file under section 245 of the Immigration and Nationality Act, and it allows the Service to collect information needed for reports to be made to different government committees.

(5) An estimate of the total number of respondents and the amount of time estimated for an average respondent to respond: I-485 Adult respondents is 314,793 at 5.25 hours per response; I-485 Children respondents is 247,289 at 4.5 hours per response; and I-485 Supplement A respondents is 73,418 at 13 minutes (.216) hours per response.

(6) An estimate of the total public burden (in hours) associated with the collection(s): 2,781,321.

If you have additional comments, suggestions, or need a copy of the information collection instrument, please visit our Web site at http://www.uscis.gov, go to the “Fingerprinting and Forms” link, then scroll down the page for this form. You may also contact Richard A. Sloan, Director, Regulatory Management Division, U.S. Citizenship and Immigration Services, 111 Massachusetts Avenue, NW., Washington, DC 20529; 209-272-8377.

Dated: May 10, 2005.
Richard A. Sloan,
Director, Regulatory Management Division, U.S. Citizenship and Immigration Services.

[FR Doc. 05-10456 Filed 5-24-05; 8:45 am]

BILLING CODE 4410-10-M